DEPARTMENT OF THE INTERIOR

Fish and Wildlife Service

[FWS-R9-IA-2011-N060; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before April 9, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: San Diego Zoo Global, Escondido, CA; PRT-63409A

The applicant requests a permit to export two captive-bred Andean condors (Vultur gryphus)—one male and one female—for the purpose of reintroduction to enhance the survival of the species.

Applicant: Association for the Conservation of Threatened Parrots, Inc. (ACTP) Loxahatchee, FL; PRT-62567A

The applicant requests a permit to export 15 live, captive-born St. Vincent parrots (Amazona guildingii) to Germany, for the purpose of enhancement of the survival of the species.

Applicant: U.S. Fish and Wildlife Service, Billings, MT; PRT-59485A

The applicant requests a permit to export 22 preserved juvenile pallid sturgeon (Scaphirhynchus albus) hatched at the Gavins Point National Fish Hatchery in Yankton, SD, for the purpose of scientific research. This notification covers activities to be conducted by the applicant over a 5-year period.

Applicant: Houston Zoo, Inc., Houston, TX; PRT-64106A

The applicant requests a permit to export two live, captive-born red-crowned cranes (Grus japonensis) to Chile, for the purpose of enhancement of the survival of the species.

Applicant: Adalgisa Caccone, Yale University, New Haven, CT; PRT-209142

The applicant requests a permit to import biological samples of Galapagos giant tortoises (Geochelone nigra) from Galapagos, Ecuador, for the purpose of enhancement of the survival of the species through scientific research. This notification covers activities to be conducted by the applicant over a 5-year period.

Applicant: Morani River Ranch, Uvalde, TX; PRT-46687A

The applicant requests amendment of their captive-bred wildlife registration under 50 CFR 17.21(g) to add scimitar-horned oryx (Oryx dammah), addax (Addax nasomaculatus), and dama gazelle (Nanger dama) to enhance their propagation or survival. This notification covers activities to be conducted by the applicant over a 5-year period.

Applicant: Morani River Ranch, Uvalde, TX; PRT-49112A

The applicant requests amendment of their permit authorizing interstate and foreign commerce, export, and cull to include scimitar-horned oryx (Oryx dammah), addax (Addax nasomaculatus), and dama gazelle (Nanger dama) from the captive herds maintained at their facility, for the purpose of enhancement of the survival of the species. This notification covers activities to be conducted by the applicant over a 5-year period.

Applicant: Donald Henderson, Ijamsville, MD; PRT-061184

The applicant requests renewal of their captive-bred wildlife registration under 50 CFR 17.21(g) for radiated tortoise (Astrochelys radiata), to enhance their propagation or survival. This notification covers activities to be conducted by the applicant over a 5-year period.

Applicant: Priour Brothers Ranch, Ingram, TX; PRT-672849

The applicant requests amendment of their captive-bred wildlife registration under 50 CFR 17.21(g) to add scimitar-horned oryx (Oryx dammah), addax (Addax nasomaculatus), and dama gazelle (Nanger dama) to enhance their propagation or survival. This notification covers activities to be conducted by the applicant over a 5-year period.

Applicant: Priour Brothers Ranch, Ingram, TX; PRT-707102

The applicant requests amendment of their permit authorizing interstate and foreign commerce, export, and cull, to include scimitar-horned oryx (Oryx dammah,), and addax (Addax nasomaculatus) from the captive herds maintained at their facility, for the purpose of enhancement of the survival of the species. This notification covers activities to be conducted by the applicant over a 5-year period.

Applicant: H. Yturria Land and Cattle Co., Brownsville, TX; PRT-179119

The applicant requests amendment of their captive-bred wildlife registration under 50 CFR 17.21(g) to add scimitar-horned oryx (Oryx dammah), and addax (Addax nasomaculatus), to enhance their propagation or survival. This notification covers activities to be conducted by the applicant over a 5-year period.

Applicant: H. Yturria Land and Cattle Co., Brownsville, TX; PRT-179117

The applicant requests amendment of their permit authorizing interstate and foreign commerce, export, and cull to include scimitar-horned oryx (Oryx dammah), and addax (Addax nasomaculatus) from the captive herds maintained at their facility, for the purpose of enhancement of the survival of the species. This notification covers activities to be conducted by the applicant over a 5-year period.

Applicant: Michale Soupios, East Northport, NY; PRT-042637

The applicant requests renewal of their captive-bred wildlife registration under 50 CFR 17.21(g) for Galapagos tortoise (Chelonoidis nigra), to enhance their propagation or survival. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: John Lattimore, Bells, TX; PRT-66322A

Applicant: Robert Shemonski, Perkiomenville, PA; PRT-63858A

Applicant: Don Adams, Bloomington, IN; PRT-61190A

Brenda Tapia,
Program Analyst/Data Administrator, Branch of Permits, Division of Management Authority.

[FR Doc. 2012-5643 Filed 3-7-12; 8:45 am]

BILLING CODE 4310-55-P